DEPARTMENT OF TRANSPORTATION

Federal Aviation Administration

14 CFR Part 39

[Docket No. FAA-2024-1886; Project Identifier AD-2023-01018-R; Amendment 39-22862; AD 2024-20-03]

RIN 2120-AA64

Airworthiness Directives; Robinson Helicopter Company Helicopters

AGENCY: Federal Aviation Administration (FAA), DOT.

ACTION: Final rule.

SUMMARY: The FAA is adopting a new airworthiness directive (AD) for Robinson Helicopter Company (Robinson Helicopter) Model R22 Beta, R22 Mariner, R44, and R44 II helicopters with a certain governor controller installed. This AD was prompted by reports of engine governor failure, which was a result of water intrusion inside of the governor controller. This AD requires replacing certain governor controllers and prohibits installing those governor controllers on any helicopter. The FAA is issuing this AD to address the unsafe condition on these products.

DATES: This AD is effective November 29, 2024.

The Director of the Federal Register approved the incorporation by reference of certain publications listed in this AD as of November 29, 2024.

ADDRESSES:

AD Docket: You may examine the AD docket at regulations.gov under Docket No. FAA-2024-1886; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Robinson Helicopter material identified in this AD, contact Robinson Helicopter Company, Technical Support Department, 2901 Airport Drive, Torrance, CA 90505; phone: (310) 539-0508; fax: (310) 539-5198; email: ts1@robinsonheli.com; or at robinsonheli.com.

• You may view this material at the FAA, Office of the Regional Counsel, Southwest Region, 10101 Hillwood Parkway, Room 6N-321, Fort Worth, TX 76177. For information on the availability of this material at the FAA, call (817) 222-5110. It is also available at regulations.gov under Docket No. FAA-2024-1886.

Other Related Material: For Robinson Helicopter material identified in this AD, contact Robinson Helicopter Company at its contact information under Material Incorporated by Reference above.

FOR FURTHER INFORMATION CONTACT: Eric Moreland, Aviation Safety Engineer, FAA, 3960 Paramount Boulevard, Lakewood, CA 90712; phone: (562) 627-5364; email: eric.r.moreland@faa.gov.

SUPPLEMENTARY INFORMATION:

Background

The FAA issued a notice of proposed rulemaking (NPRM) to amend 14 CFR part 39 by adding an AD that would apply to Robinson Helicopter Model R22 Beta, R22 Mariner, R44, and R44 II helicopters with a governor controller part number (P/N) D270-1, Revision A through E inclusive, installed. The NPRM published in the Federal Register on July 17, 2024 (89 FR 58084). The NPRM was prompted by three reports of governor controller failures involving Robinson Helicopter Model R22 Beta and R44 II helicopters. Prior to these governor controller failures, several operators notified Robinson Helicopter of a malfunction of the governor controller. As a result of an investigation, it has been determined that the root cause for these malfunctions is water intrusion in the circuit board of the governor controller. In light of this, Robinson Helicopter issued service bulletins which specify exchanging the existing governor controller with a governor which provides additional moisture protection.

In the NPRM, the FAA proposed to require removing any governor controller P/N D270-1, Revision A thru E inclusive, from service and installing a governor controller P/N D270-1, Revision F or later approved revision. In the NPRM, the FAA also proposed to prohibit installing governor controller P/N D270-1, Revision A through E inclusive, on any helicopter, since the affected parts may also be installed on Robinson Helicopter Model R22 Mariner and R44 helicopters. The unsafe condition, if not addressed, could result in loss of engine speed governing such as an engine overspeed or underspeed condition, and subsequent unexpected loss of power during critical phases of flight and landing. The FAA is issuing this AD to address the unsafe condition on these products.

Discussion of Final Airworthiness Directive

Comments

The FAA received comments from one commenter, Robinson Helicopter, who stated that they had no comment.

Conclusion

The FAA reviewed the relevant data, considered the comment received, and determined that air safety requires adopting the AD as proposed. Accordingly, the FAA is issuing this AD to address the unsafe condition on these products. Except for minor editorial changes, this AD is adopted as proposed in the NPRM.

Material Incorporated by Reference Under 1 CFR Part 51

The FAA reviewed Robinson Helicopter R22 Service Bulletin SB-121 and Robinson Helicopter R44 Service Bulletin SB-114, each dated June 28, 2023 (SB-121 and SB-114). This material specifies procedures for removing governor controller, part number D270-1, Revision A thru E, and replacing it with governor controller P/N D270-1, Revision F (or subsequent). This material is reasonably available because the interested parties have access to it through their normal course of business or by the means identified in the ADDRESSES section.

Other Related Material

The FAA also reviewed Robinson R22 and R44 Engine Monitoring Unit (EMU) Technician's PC Software Guide, dated Oct 9, 2020. This material provides information to program the new EMU ID for the governor controller.

Differences Between This AD and the Referenced Material

The referenced material applies to Robinson Helicopter Model R22-series and R44-series helicopters with certain P/N D270-1 governor controllers installed and also identifies which serial-numbered helicopters the affected parts were factory installed on, whereas this AD applies to all Robinson Helicopter Model R22 Beta, R22 Mariner, R44, and R44 II helicopters with a certain P/N D270-1 governor controller installed. This AD requires accomplishing certain actions specified in SB-121 or SB-114, as applicable to your helicopter model, except the procedures in paragraph 4. of SB-121 and SB-114 must be accomplished by persons authorized under 14 CFR 43.3., instead of “an appropriately rated person.”

Costs of Compliance

The FAA estimates that this AD affects 140 helicopters of U.S. registry. Labor costs are estimated at $85 per work-hour. Based on these numbers, the FAA estimates the following costs to comply with this AD.

Replacing the governor controller will take 2 work-hours and parts will cost $1,800 for an estimated cost of $1,970 per helicopter and $275,800 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-20-03 Robinson Helicopter Company: Amendment 39-22862; Docket No. FAA-2024-1886; Project Identifier AD-2023-01018-R.

(a) Effective Date

This airworthiness directive (AD) is effective November 29, 2024.

(b) Affected ADs

None.

(c) Applicability

This AD applies to all Robinson Helicopter Company Model R22 Beta, R22 Mariner, R44, and R44 II helicopters, certificated in any category, with a governor controller part number (P/N) D270-1, Revision A through E inclusive, installed.

(d) Subject

Joint Aircraft System Component (JASC) Code: 2700, Flight Control System.

(e) Unsafe Condition

This AD was prompted by reports of engine governor failures caused by water intrusion. The FAA is issuing this AD to prevent engine governor failures. The unsafe condition, if not addressed, could result in loss of engine speed governing such as an engine overspeed or underspeed condition, and subsequent unexpected loss of power during critical phases of flight and landing.

(f) Compliance

Comply with this AD within the compliance times specified, unless already done.

(g) Required Actions

(1) Within 90 days after the effective date of this AD, remove the governor controller from service and install a governor controller P/N D270-1, Revision F or later approved revision by following the Compliance Procedure, paragraphs 2. though 5., of Robinson Helicopter Company R22 Service Bulletin SB-121 or R44 Service Bulletin SB-114, each dated June 28, 2023 (SB-121 or SB-114), as applicable to your helicopter model, except the procedures in paragraph 4. of SB-121 and SB-114 must be accomplished by persons authorized under 14 CFR 43.3.

(2) As of the effective date of this AD, do not install any governor controller P/N D270-1, Revision A through E inclusive, on any helicopter.

(h) Alternative Methods of Compliance (AMOCs)

(1) The Manager, West Certification Branch, FAA, has the authority to approve AMOCs for this AD, if requested using the procedures found in 14 CFR 39.19. In accordance with 14 CFR 39.19, send your request to your principal inspector or local Flight Standards District Office, as appropriate. If sending information directly to the manager of the West Certification Branch, send it to the attention of the person identified in paragraph (i) of this AD. Information may be emailed to: AMOC@faa.gov.

(2) Before using any approved AMOC, notify your appropriate principal inspector, or lacking a principal inspector, the manager of the local flight standards district office/certificate holding district office.

(i) Additional Information

For more information about this AD, contact Eric Moreland, Aviation Safety Engineer, FAA, 3960 Paramount Boulevard, Lakewood, CA 90712; phone: (562) 627-5364; email: eric.r.moreland@faa.gov.

(j) Material Incorporated by Reference

(1) The Director of the Federal Register approved the incorporation by reference of the material listed in this paragraph under 5 U.S.C. 552(a) and 1 CFR part 51.

(2) You must use this material as applicable to do the actions required by this AD, unless the AD specifies otherwise.

(i) Robinson Helicopter Company R22 Service Bulletin SB-121, dated June 28, 2023.

(ii) Robinson Helicopter Company R44 Service Bulletin SB-114, dated June 28, 2023.

(3) For Robinson Helicopter Company material identified in this AD, contact Robinson Helicopter Company, Technical Support Department, 2901 Airport Drive, Torrance, CA 90505; phone: (310) 539-0508; fax: (310) 539-5198; email: ts1@robinsonheli.com; or at robinsonheli.com.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locationsoremailfr.inspection@nara.gov.

Issued on October 3, 2024.
Steven W. Thompson,
Acting Deputy Director, Compliance & Airworthiness Division, Aircraft Certification Service.

[FR Doc. 2024-24531 Filed 10-23-24; 8:45 am]

BILLING CODE 4910-13-P